DEPARTMENT OF DEFENSE

Office of the Secretary

Defense Science Board

AGENCY: Department of Defense.

ACTION: Notice of advisory committee meeting.

SUMMARY: The Defense Science Board Task Force on Organizational Structures for Stabilization Operations will meet in open session September 2, 2005, from 1300-1700 at the Pentagon, Room 3E947, Washington, DC. The task force will address organizational structures necessary to support or conduct stability operations. At this meeting, the Defense Science Board Task Force will focus on: (1) What organizational change is needed within OSD Policy, the Joint Staff and the rest of DoD to manage implementation—that is, to ensure that the designated capabilities are created and the interagency and joint vision are followed at various DoD levels; (2) What organizational change is needed within DoD to improve our ability to conduct or support stability operations—including employing and integrating DoD capabilities with those of other Departments and Agencies, NGOs, international organizations and the private sector; (3) What should be the timing and sequence of organization change within DoD; (4) What additional staffing is required for any new or reshaped stability operations entities in DoD; and (5) Who the right people are to staff key positions.

Members of the public who wish to attend the meeting must contact LTC Dolgoff no later than August 26, 2005, for further information about admission as seating is limited. Additionally, those who wish to make oral comments or deliver written comments should also request to be scheduled, and submit a written text of the comments by August 26, 2005, to allow time for distribution to Task Force members prior to the meeting. Individual oral comments will be limited to five minutes, with the total oral comment period not exceeding 15 minutes. Due to critical mission requirements and the short timeframe to accomplish this review, there was insufficient time to provide timely notice required by section 10(a)(2) of the Federal Advisory Committee Act and subsection 102-3.150(b) of the GSA Final Rule on Federal Advisory Committee Management, 41 CFR 102-3.150(b), which further requires publication at least 15 calendar days prior to the meeting.

DATES: September 2, 2005, from 1 p.m.-5 p.m.

ADDRESSES: The Pentagon, Room 3E947, Washington, DC.

FOR FURTHER INFORMATION, CONTACT: LTC Scott Dolgoff, USA, Defense Science Board, 3140 Defense Pentagon, Room 3C553, Washington, DC 20301-3140, via e-mail at scott.dolgoff@osd.mil, or via phone at (703) 571-0082.

SUPPLEMENTARY INFORMATION: The mission of the Defense Science Board is to advise the Secretary of Defense and the Under Secretary of Defense for Acquisition, Technology & Logistics on scientific and technical matters as they affect the perceived needs of the Department of Defense.

Dated: August 23, 2005.
Jeannette Owings-Ballard,
OSD Federal Register Liaison Officer, Department of Defense.

[FR Doc. 05-17088 Filed 8-26-05; 8:45 am]

BILLING CODE 5001-06-P